DEPARTMENT OF COMMERCE

International Trade Administration

[A-570-803]

Notice of Amended Final Results in Accordance With Court Decision: Heavy Forged Hand Tools from the People's Republic of China

AGENCY: Import Administration, International Trade Administration, Department of Commerce.

EFFECTIVE DATE: March 19, 2007.

FOR FURTHER INFORMATION CONTACT: Thomas Martin or Mark Manning; AD/CVD Operations, Office 4, Import Administration, International Trade Administration, U.S. Department of Commerce, 14th Street and Constitution Ave., N.W., Washington, DC 20230; telephone: (202) 482-3936 or (202) 482-5253, respectively.

SUMMARY: On March 10, 2007, the appeals period expired with respect to a decision of the United States Court of International Trade (“CIT”), which had sustained the final results in part, and the remand determination in part, of the Department of Commerce (“the Department”) in the administrative review of the antidumping duty orders on heavy forged hand tools (“HFHTs”) from the People's Republic of China (“PRC”), covering the period February 1, 2001, through January 31, 2002. See Shandong Huarong Machinery Co. v. United States and Ames True Temper, Slip Op. 07-3 (Ct. Int'l Trade 2007) (“Shandong Huarong II”). As there is now a final court decision, we are amending the final results of the review in this matter. We will instruct U.S. Customs and Border Protection (“CBP”) to liquidate entries subject to these amended final results.

SUPPLEMENTARY INFORMATION:

Background

On September 10, 2003, the Department published in the Federal Register the final results of review for the eleventh review of HFHTs from the PRC. See Heavy Forged Hand Tools, Finished or Unfinished, With or Without Handles, From the People's Republic of China: Final Results of Antidumping Duty Administrative Review of the Order on Bars and Wedges, 68 FR 53347 (September 10, 2003) (“Final Results”). The period of review (“POR”) was February 1, 2001, through January 31, 2002. Shandong Huarong Machinery Co. (“Huarong”) filed a summons on September 18, 2003, and filed a complaint on September 25, 2003, challenging the Department's Final Results. Ames True Temper ¹ (“Ames”) filed a summons on October 10, 2003, and filed a complaint on November 10, 2003, also challenging the Department's Final Results. The Court consolidated the two cases on December 23, 2003. On February 17, 2004, Ames filed, with a supporting brief, a motion for judgment upon the agency record. On February 18, 2004, Huarong filed, with a supporting brief, its motion for judgment upon the agency record. In their briefs, Ames and Huarong challenged several aspects of the Final Results. See Ames's February 17, 2004, proposed order and brief in support of motion for judgment upon the agency record (“Ames Motion for Judgment”); see also Huarong's February 18, 2004, proposed order and brief in support of motion for judgment upon the agency record (“Huarong Motion for Judgment”). On April 26, 2004, the Department filed its opposition to both the Huarong Motion for Judgment and the Ames Motion for Judgment. Ames filed an opposition to the Huarong Motion for Judgment on April 27, 2004. Huarong filed its reply to the Department's opposition and Ames's opposition on May 21, 2004. The Court issued a remand order on May 2, 2005.

¹ Ames True Temper is a domestic interested party to the proceeding, and was the petitioner in the underlying review.

In Shandong Huarong Machinery Co. v. United States, 2005 Ct. Intl. Trade LEXIS 57, Slip Op. 2005-54 (Ct. Int'l Trade, 2005) (“Shandong Huarong I”), the CIT remanded the underlying final results to the Department to: (1) reopen the record in order to afford Huarong a second opportunity to provide a scrap offset in which its scrap sales are allocated to the production of bars/wedges; (2) explain why its methodology of including distances greater than the distance from the nearest port to the factory, when calculating the weighted-average freight distance for multiple suppliers of one particular factor of production (“FOP”), satisfies the reasoning in Sigma Corp. v. United States, 117 F.3d 1401 (Fed. Cir. 1997) (“Sigma”) and Lasko Metal Products Inc. v. United States, 43 F.3d 1442, 1446 (Fed. Cir. 1994) (“Lasko”), or adjust its methodology; (3) explain its decision to disregard the effect of subsidies from the United States and other countries, in light of Fuyao Glass Indus. Group Co. v. United States, Slip Op. 2003-169 (Ct. Int'l Trade, 2003) (“Fuyao I”) and Fuyao Glass Indus. Group Co. v. United States, Slip Op. 2005-06 (Ct. Int'l Trade, 2005) (“Fuyao II”); (4) supply a more complete explanation to support its determination that labor costs and other factor inputs for making steel pallets are included in the cost of brokerage and handling; and (5) provide a more complete explanation to support its decision that the cost of movement from the truck to the container yard, demurrage and storage charges, and other port charges are included in the brokerage and handling cost.

The Department released the Draft Results of Redetermination Pursuant to Court Remand (“Draft Redetermination”) to Huarong and Ames for comment on October 7, 2005. The Department received timely filed comments from both Huarong and Ames on October 14, 2005, and rebuttal comments from Huarong on October 19, 2005. The Department filed its Final Results of Redetermination Pursuant to Court Remand (“Final Redetermination”) with the CIT on November 30, 2005. In the Final Redetermination the Department did the following: (1) reopened the record, and applied a steel scrap offset in its calculation of normal value to adjust for sales of steel scrap that was generated from the production of the subject bars and wedges; (2) applied the Sigma cap in its analysis and capped the distance for each supplier before calculating the weighted-average inland freight distance; (3) explained its decision in the Final Results to not exclude U.S. export data from the Indian import statistics used as the surrogate value because it would have resulted in an insignificant adjustment to normal value; (4) revised its FOP methodology to include labor costs and other factor inputs for making steel pallets in normal value; and (5) explained its reasoning for finding that movement expenses incurred at the port of export were included in the calculation of brokerage and handing expenses. The Department recalculated the antidumping duty rate applicable to Huarong, and included the changes noted above. On January 9, 2007, the CIT sustained all aspects of the remand redetermination made by the Department pursuant to the CIT's remand of the Final Results.

Amended Final Results of Review

The time period for appealing the CIT's final decision to the Court of Appeals for the Federal Circuit has expired and no party has appealed this decision. As there is now a final and conclusive court decision with respect to litigation for Huarong, we are amending the final results of review to reflect the findings of the remand results, pursuant to section 516A(e) of the Tariff Act of 1930, as amended (“the Act”). The amended weighted-average margin is:

Manufacturer/Exporter | Margin
Shandong Huarong Machinery Co.:
Bars/Wedges | 31.00

Assessment Rates

The Department will determine, and CBP shall assess, antidumping duties on all appropriate entries. In accordance with 19 CFR 351.212(b)(1), we have calculated importer-specific assessment rates. Where the importer-specific assessment rate is above de minimis on an ad valorem basis, calculated by dividing the dumping margins found on examined subject merchandise by the estimated entered value, we will instruct CBP to assess antidumping duties on that importer's entries of subject merchandise. In accordance with 19 CFR 351.106(c)(2), we will instruct CBP to liquidate without regard to antidumping duties any entries for which the importer-specific assessment rate is de minimis (i.e., less than 0.5 percent ad valorem). Since the actual entered value of the merchandise was not reported to us, we have divided, where applicable, the total dumping margins (calculated as the difference between normal value and export price) for each importer by the total number of units sold to the importer. We will direct CBP to assess the resulting unit dollar amount against each unit of subject merchandise entered by the importer during the POR. The Department will issue appropriate assessment instructions directly to CBP 15 days after publication of these amended final results of review.

These amended final results of administrative review are issued and published in accordance with section 516A(c)(1) of the Act.

Dated: March 12, 2007.
David M. Spooner,
Assistant Secretary for Import Administration.

[FR Doc. E7-4949 Filed 3-16-07; 8:45 am]

BILLING CODE 3510-DS-S